DEPARTMENT OF COMMERCE

National Oceanic and Atmospheric Administration

RIN 0648-ZP93

Marine Mammals; File No. 14341

AGENCY: National Marine Fisheries Service (NMFS), National Oceanic and Atmospheric Administration (NOAA), Commerce.

ACTION: Notice; issuance of permit.

SUMMARY: Notice is hereby given that Karen Terio, DVM, PhD, Zoological Pathology Program, College of Veterinary Medicine, University of Illinois, LUMC Room 0745, Building 101, 2160 South First Street, Maywood, IL 60153, has been issued a scientific research permit to import marine mammal specimens for scientific research.

ADDRESSES: The permit and related documents are available for review upon written request or by appointment in the following offices:

Permits, Conservation and Education Division, Office of Protected Resources, NMFS, 1315 East-West Highway, Room 13705, Silver Spring, MD 20910; phone (301)713-2289; fax (301)713-0376; and

Northeast Region, NMFS, 55 Great Republic Drive, Gloucester, MA 01930; phone (978)281-9300; fax (978)281-9333.

FOR FURTHER INFORMATION CONTACT: Jennifer Skidmore or Kate Swails, (301)713-2289.

SUPPLEMENTARY INFORMATION: On March 9, 2009, notice was published in the Federal Register (74 FR 10035) that a request for a scientific research permit had been submitted by the above-named individual. The requested permit has been issued under the authority of the Marine Mammal Protection Act of 1972, as amended (MMPA; 16 U.S.C. 1361 et seq.), the regulations governing the taking and importing of marine mammals (50 CFR part 216), the Endangered Species Act of 1973, as amended (ESA; 16 U.S.C. 1531 et seq.) and the regulations governing the taking, importing, and exporting of endangered and threatened species (50 CFR 222-226).

The permit authorizes the importation of unlimited biological samples from up to 200 individuals per year of the orders Cetacea (all species) and Pinnipedia (with the exception of walruses) from yet to be determined locations outside the U.S. All samples will be imported for diagnostic testing to determine the causes of outbreaks or unusual natural mortalities, investigations into the ecology of diseases in free-ranging animals, or unexpected mortalities in captive populations. All biological specimens will originate from animals found deceased in nature, collected opportunistically during the animals' capture by other researchers possessing permits for such activities, or from specimens legally held in captivity outside the U.S.A. No live animals will be taken from the wild for research. The permit is issued for a period of five years.

In compliance with the National Environmental Policy Act of 1969 (42 U.S.C. 4321 et seq.), a final determination has been made that the activity proposed is categorically excluded from the requirement to prepare an environmental assessment or environmental impact statement.

Issuance of this permit, as required by the ESA, was based on a finding that such permit: (1) Was applied for in good faith; (2) will not operate to the disadvantage of such endangered species; and (3) is consistent with the purposes and policies set forth in section 2 of the ESA.

Dated: July 17, 2009.
P. Michael Payne,
Chief, Permits, Conservation and Education Division, Office of Protected Resources, National Marine Fisheries Service.

[FR Doc. E9-17543 Filed 7-22-09; 8:45 am]

BILLING CODE 3510-22-S